DEPARTMENT OF THE INTERIOR

Bureau of Land Management

Realty Action: Direct Sale; Mr. & Mrs. John & Candy Kalal, MT

AGENCY: Bureau of Land Management, Interior.

ACTION: The Bureau of Land Management (BLM) is providing notice of a proposed sale of public land in Phillips County involving only the surface estate to Mr. and Mrs. John and Candy Kalal. The purpose of the sale of 0.829 acres directly to Mr. and Mrs. John and Candy Kalal is to resolve an unauthorized occupancy. Disposal of the public land meets criteria 1 and 3 of section 203 of the Federal Land Policy and Management Act (FLPMA) of 1976 (43 U.S.C. 1713).

SUMMARY: Mr. and Mrs. John and Candy Kalal will use the purchased land as part of their existing motel, garage and trailer court. The BLM advised state and local officials about the proposed sale. The estimated fair market value is $6,225.00. Sale of the public land will occur in May or June of 2002.

The following described public land is suitable for sale under criteria 1 and 3 of section 203 of FLPMA of 1976 (43 U.S.C. 1713):

Principal Meridian Montana

T. 25 N., R. 25 E.,

Sec. 16, block 14 lot 1;

Sec. 17, block 6 lot 9.

Containing 0.829 acres.

DATES, COMMENTS AND PROTESTS: The effective date of this proposed sale notice is the publication date of this notice in the Federal Register.

Comments on the proposed sale may occur for 45 days from the date of this notice. Send comments to: Bureau of Land Management, Malta Field Office, 501 South 2nd Street East, HC 65, Box 5000, Malta, Montana 59538-0047.

The State Director will weigh adverse comments on the proposed sale and may vacate or change this notice concerning the proposed sale. Without any objections this notice will become the final determination of the Department of the Interior.

FOR FURTHER INFORMATION CONTACT: Information related to the proposed sale and environmental assessment are available from Bruce W. Reed, Field Manager, 501 South 2nd Street East, HC 65, Box 5000, Malta, Montana 59538-0047, 406-654-5113.

SUPPLEMENTARY INFORMATION: The publication of this notice segregates the public land described above from appropriation under the public land laws, including the mining laws but not from sale under Section 203 of the FLPMA of 1976. The segregation will end upon issuance of the conveyance document or 270 days from the date of publication of this notice, whichever occurs first.

The conveyance of public land is subject to:

1. A reservation of a right-of-way for ditches and canals under 43 U.S.C. 945.

2. A reservation of all Federal minerals.

Bruce W. Reed,
Malta Field Manager.

[FR Doc. 02-10702 Filed 5-6-02; 8:45 am]

BILLING CODE 4310-$$-P